DEPARTMENT OF AGRICULTURE

Forest Service

Trinity County Resource Advisory Committee

AGENCY: Forest Service, USDA.

ACTION: Notice of meetings.

SUMMARY: The Trinity County Resource Advisory Committee (RAC) will meet in Weaverville, California. The committee is authorized under the Secure Rural Schools and Community Self-Determination Act (Pub. L. 110-343) (the Act) and operates in compliance with the Federal Advisory Committee Act. The purpose of the committee is to improve collaborative relationships and to provide advice and recommendations to the Forest Service concerning projects and funding consistent with the title II of the Act. The meetings are open to the public. The purpose of the first meeting is to conduct a general session to exchange information to assist the committee with the 2014 Title proposal and funding process; the following meetings are to review and vote on proposals for project funding.

DATES: The meetings will be held from 6:30 p.m. to 8:30 p.m., on the following dates:

• March 17, 2014

• March 24, 2014

• March 31, 2014

All RAC meetings are subject to cancellation. For status of meeting prior to attendance, please contact the person listed under For Further Information Contact.

ADDRESSES: The meetings will be held at the Trinity County Office of Education, Conference Room, 201 Memorial Drive, Weaverville, California. Memorial Drive is at the west end of Weaverville, just off Highway 299 on the road leading to the High School.

Written comments may be submitted as described under Supplementary Information. All comments, including names and addresses when provided, are placed in the record and are available for public inspection and copying. The public may inspect comments received at the Shasta-Trinity National Forest Headquarters office in Redding, California. Please call ahead to facilitate entry into the building.

FOR FURTHER INFORMATION CONTACT: Donna F. Harmon, Designated Federal Official, by phone at 530-226-2335 or via email at dharmon@fs.fed.us.

Individuals who use telecommunication devices for the deaf (TDD) may call the Federal Information Relay Service (FIRS) at 1-800-877-8339 between 8:00 a.m. and 8:00 p.m., Eastern Standard Time, Monday through Friday. Please make requests in advance for sign language interpreting, assistive listening devices or other reasonable accomodation for access to the facility or procedings by contacting the person listed above.

SUPPLEMENTARY INFORMATION: Additional RAC information, including the meeting agenda and the meeting summary/minutes can be found at the following Web site: www.fs.usda.gov/main/stnf/workingtogether/advisorycommittees. The agenda will include time for people to make oral statements of three minutes or less. Individuals wishing to make an oral statement should request in writing no less than one week before each meeting to be scheduled on the agenda. Anyone who would like to bring related matters to the attention of the committee may file written statements with the committee staff before or after the meeting. Written comments and requests for time for oral comments must be sent to Donna Harmon, Designated Federal Official, 3644 Avtech Parkway, Redding, California 96002; or by email to dharmon@fs.fed.us, or via facsimile to 530-226-2486.

Meeting Accommodations: If you are a person requiring reasonable accommodation, please make requests in advance for sign language interpreting, assistive listening devices or other reasonable accommodation for access to the facility or proceedings by contacting the person listed in the section titled For Further Information Contact. All reasonable accommodation requests are managed on a case by case basis.

Dated: February 10, 2014.
David R. Myers,
Forest Supervisor.

[FR Doc. 2014-03621 Filed 2-19-14; 8:45 am]

BILLING CODE 3411-15-P